DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Illinois Railway Museum (Waiver Petition Docket Number FRA-2005-21271)

The Illinois Railway Museum (IRYM) seeks a waiver of compliance from the Steam Locomotive Inspection and Maintenance Standards (49 CFR 230.17(a)) for steam locomotive number IRYM 428, which requires “Before any steam locomotive is initially put in service or brought out of retirement, and after every 1472 service days or 15 years, whichever is earlier, an individual competent to conduct the inspection shall inspect the entire boiler. In the case of a new locomotive or a locomotive being brought out of retirement, the initial 15 year period shall begin on the day that the locomotive is placed in service or 365 calendar days after the first flue tube is installed in the locomotive, whichever comes first. This 1472 service day inspection shall include all annual, and 5th annual, inspection requirements, as well as any items required by the steam locomotive owner and/or operator or the FRA inspector. At this time, the locomotive owner and/or operator shall complete, update and verify the locomotive specification card (FRA Form No. 4), to reflect the condition of the boiler at the time of this inspection. See appendices A and B of this part.” IRYM request states that they installed the first tube in the subject locomotive boiler in October 1999, and since that time, the locomotive has been stored in a heated shop. The boiler has not been fired but was hydrostatically tested three times. If granted, the date the waiver is granted or the first day the locomotive is fired, whichever occurs first, would be the date the locomotive enters service and the 1472 service/15-year inspection requirements begin.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (FRA-2005-21271) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (volume 65, number 70; pages 19477-78). The Statement may also be found at http://dms.dot.gov.

Issued in Washington, DC, on June 2, 2005.
Grady C. Cothen, Jr.,
Deputy Associate Administrator for Safety Standards and Program Development.

[FR Doc. 05-11414 Filed 6-7-05; 8:45 am]

BILLING CODE 4910-06-P